DEPARTMENT OF LABOR

Office of the Secretary

Agency Information Collection Activities; Submission for OMB Review; Comment Request; Mine Accident, Injury, and Illness Report and Quarterly Mine Employment and Coal Production Report

ACTION: Notice of availability; request for comments.

SUMMARY: The Department of Labor (DOL) is submitting this Mining Safety and Health Administration (MSHA)-sponsored information collection request (ICR) to the Office of Management and Budget (OMB) for review and approval in accordance with the Paperwork Reduction Act of 1995 (PRA). Public comments on the ICR are invited.

DATES: The OMB will consider all written comments that agency receives on or before December 31, 2020.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Anthony May by telephone at 202-693-4129 (this is not a toll-free number) or by email at DOL_PRA_PUBLIC@dol.gov.

SUPPLEMENTARY INFORMATION: Section 103(h) of the Federal Mine Safety and Health Act of 1977 (Mine Act), 30 U.S.C. 813(h), authorizes MSHA to collect information necessary to carry out its duty in protecting the safety and health of miners. Further, section 101(a) of the Mine Act, 30 U.S.C. 811, authorizes the Secretary of Labor (Secretary) to develop, promulgate, and revise as may be appropriate, improved mandatory health or safety standards for the protection of life and prevention of injuries in coal or other mines. The reporting and recordkeeping provisions in 30 CFR part 50 (Part 50), Notification, Investigation, Reports and Records of Accidents, Injuries and Illnesses, Employment and Coal Production in Mines, are essential elements in MSHA's statutory mandate to reduce work-related injuries and illnesses among the nation's miners (30 U.S.C. 801). Section 50.10 requires mine operators and independent contractors to immediately notify MSHA in the event of an accident. This immediate notification is critical to MSHA's timely investigation and assessment of the cause of the accident. Section 50.11 requires that the mine operator or independent contractor investigate each accident and occupational injury and prepare a report. The mine operator or independent contractor may not use MSHA Form 7000-1 as the investigation report, except if the operator or contractor employs fewer than 20 miners and the injury is not related to an accident. Section 50.20 requires mine operators and independent contractors to report each accident, injury, and illness to MSHA on Form 7000-1 within 10 working days after an accident or injury has occurred or an occupational illness has been diagnosed. The use of MSHA Form 7000-1 provides for uniform information gathering across the mining industry. Section 50.30 requires that all mine operators and independent contractors working on mine property report employment to MSHA quarterly on Form 7000-2, and that coal mine operators and independent contractors also report coal production. Accident, injury, and illness data, when correlated with employment and production data, provide information that MSHA uses to improve its safety and health enforcement programs, focus its education and training efforts, and establish priorities for its technical assistance activities in mine safety and health. Maintaining a current database allows MSHA to identify and direct increased attention to those mines, industry segments, and geographical areas where hazardous trends are developing. This could not be done effectively using historical data. The information collected under Part 50 is the most comprehensive and reliable occupational data available concerning the mining industry. Section 103(d) of the Mine Act mandates that each accident be investigated by the operator to determine the cause and means of preventing a recurrence. Operators must keep records of such accidents and investigations and make them available to the Secretary or the Secretary's authorized representative and the appropriate State agency. Section 103(h) requires operators to keep any records and make any reports that are reasonably necessary for MSHA to perform its duties under the Mine Act. Section 103(j) requires operators to notify MSHA of the occurrence of an accident and to take appropriate measures to preserve any evidence that would assist in the investigation into the causes of the accident. For additional substantive information about this ICR, see the related notice published in the Federal Register on September 14, 2020 (85 FR 56637).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-MSHA.

Title of Collection: Mine Accident, Injury, and Illness Report and Quarterly Mine Employment and Coal Production Report.

OMB Control Number: 1219-0007.

Affected Public: Businesses or other for-profits institutions.

Total Estimated Number of Respondents: 25,067.

Total Estimated Number of Responses: 112,414.

Total Estimated Annual Time Burden: 131,631 hours.

Total Estimated Annual Other Costs Burden: $2,946.

(Authority: 44 U.S.C. 3507(a)(1)(D))

Dated: November 23, 2020.
Anthony May,
Management and Program Analyst.

[FR Doc. 2020-26384 Filed 11-30-20; 8:45 am]

BILLING CODE 4510-43-P